DEPARTMENT OF COMMERCE

Foreign-Trade Zones Board

[B-24-2014]

Foreign-Trade Zone 60—Nogales, Arizona; Application for Reorganization and Expansion under Alternative Site Framework

An application has been submitted to the Foreign-Trade Zones (FTZ) Board by the Nogales-Santa Cruz Economic Development Foundation, Inc., grantee of FTZ 60, requesting authority to reorganize and expand the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on March 12, 2014.

FTZ 60 was approved by the FTZ Board on October 15, 1980 (Board Order 164, 45 FR 70037, October 22, 1980) and the grant of authority for the zone was transferred from Border Industrial Development, Inc., to the Nogales-Santa Cruz Economic Development Foundation, Inc., on September 24, 1993 (Board Order 659, 58 FR 51614, October 4, 1993).

The current zone includes the following sites: Site 1 (21 acres)—Nogales West Customs Compound, adjacent to the border crossing at 200 North Mariposa Road, Nogales; Site 2 (7 acres)—North Industrial Park, 1480 North Industrial Park Drive, Nogales; and, temporary Site 3 (5 acres)—BD Medical, 745 North Target Range Road, Nogales.

The grantee's proposed service area under the ASF would be all of Santa Cruz County, Arizona, as described in the application. If approved, the grantee would be able to serve sites throughout the service area based on companies' needs for FTZ designation. The proposed service area is within and adjacent to the Nogales-Mariposa U.S. Customs and Border Protection port of entry.

The applicant is requesting authority to reorganize its existing zone project to include existing Site 1 and Site 2 as “magnet” sites. The applicant is also requesting to expand the zone to include temporary Site 3 as a usage-driven site.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is May 19, 2014. Rebuttal comments in response to material submitted during the foregoing period may be submitted during the subsequent 15-day period to June 2, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Christopher Kemp at Christopher.Kemp@trade.gov or (202) 482-0862.

Dated: March 12, 2014.
Andrew McGilvray,
Executive Secretary.

[FR Doc. 2014-05968 Filed 3-17-14; 8:45 am]

BILLING CODE 3510-DS-P